DEPARTMENT OF TRANSPORTATION

Surface Transportation Board

[STB Finance Docket No. 35164; STB Docket No. AB-6 (Sub-No. 430X)]

BNSF Railway Company-Petition for Declaratory Order; BNSF Railway Company—Abandonment Exemption—in Oklahoma County, OK

AGENCY: Surface Transportation Board, DOT.

ACTION: Notice of board action.

SUMMARY: The Surface Transportation Board (Board) hereby gives notice that, on its own motion, it granted BNSF Railway Company (BNSF) exemptions under 49 U.S.C. 10502 from the provisions of 49 U.S.C. 10903 (filing and procedure for application to abandon or discontinue service), 49 U.S.C. 10904 (offers of financial assistance to avoid abandonment and discontinuance), and 49 U.S.C. 10905 (offering abandoned rail properties for sale for public purposes) for a segment of track on the Chickasha Line in Oklahoma City, OK, between milepost 541.69 and milepost 540.15 (the middle segment). The Board took this action in a decision served earlier in which it also found that a BNSF eastern segment project was a relocation that did not require prior agency authorization.

FOR FURTHER INFORMATION CONTACT: Joseph Dettmar, (202) 245-0395. [Assistance for the hearing impaired is available through the Federal Information Relay Service (FIRS) at: (800) 877-8339.]

SUPPLEMENTARY INFORMATION: By petition filed on July 15, 2008, BNSF asked the Board to issue a declaratory order finding that what it characterized as two track relocation projects in Oklahoma City, OK did not require Board approval.

The Board granted the requested declaratory relief as to the eastern segment. On the middle segment, Board concluded that the evidence before it in the two related dockets had provided ample support for authorizing abandonment of that segment. The evidence indicates that: the three existing shippers on adjoining segments will continue to receive local service; all overhead service can be rerouted; no one has requested local service on the middle segment in over 10 years; and there is no indication of any need for service on the middle segment in the future. Finally, because any traffic that might need to move over the middle segment could move over a refurbished BNSF Line (the Packingtown Lead), the public convenience and necessity does not require BNSF to keep the middle segment in the national rail system. Accordingly, the Board on its own motion granted BNSF an exemption from the provisions of 49 U.S.C. 10903 for the middle segment.

In seeking a declaratory order, BNSF also asked the Board for an expedited decision so that the relocation project to facilitate the construction of the I-40 highway could go forward. The Board, on its own motion, exempted the abandonment of the middle segment from the statutory offer of financial assistance (OFA) program so that the highway project may proceed and because applying the OFA provisions under 49 U.S.C. 10904 is not necessary to carry out the rail transportation policy.

Lastly, the Board granted an exemption on its own motion from the public use provisions under 49 U.S.C. 10905. BNSF has already agreed to make the right-of-way available to Oklahoma Department of Transportation (ODOT) for public use, i.e., the construction of I-40. Therefore, the purpose sought to be achieved by section 10905—to provide an opportunity to public bodies to negotiate for the acquisition of abandoned rail properties—has already been fulfilled by the agreement reached between BNSF and ODOT.

This action will not significantly affect either the quality of the human environment or the conservation of energy resources.

Decided: May 19, 2009.
By the Board, Acting Chairman Mulvey, and Vice Chairman Nottingham.
Andrea Pope-Matheson,
Clearance Clerk.

[FR Doc. E9-12099 Filed 5-22-09; 8:45 am]

BILLING CODE 4915-01-P